DEPARTMENT OF COMMERCE

National Oceanic and Atmospheric Administration

Advisory Committee on Commercial Remote Sensing (ACCRES); Charter Renewal

AGENCY: National Oceanic and Atmospheric Administration, U.S. Department of Commerce.

ACTION: Notice of ACCRES Charter Renewal.

SUMMARY: The Advisory Committee on Commercial Remote Sensing (ACCRES) was renewed on March 14, 2012.

SUPPLEMENTARY INFORMATION: In accordance with the provisions of the Federal Advisory Committee Act, 5 U.S.C. App 2, and the General Services Administration (GSA) rule on Federal Advisory Committee Management, 41 CFR Part 101-6, and after consultation with GSA, the Secretary of Commerce has determined the renewal of the Advisory Committee on Commercial Remote Sensing (ACCRES) is in the public interest in connection with the performance of duties imposed on the Department by law.

The Committee was first established in May 2002, to advise the Under Secretary of Commerce for Oceans and Atmosphere on matters relating to the U.S. commercial remote-sensing industry and National Oceanic and Atmospheric Administration's activities to carry out the responsibilities of the Department of Commerce set forth in set forth in the 51 U.S.C. 60121, et seq, the National and Commercial Space Programs Act and 15 CFR part 960 the Land Remote Sensing Policy Act of 1992 (15 U.S.C. 5621-5625).

The Committee consists of generally not more than 15 members serving in a representative capacity. Each of these members shall be appointed by the Under Secretary to assure a balanced representation among remote sensing satellite operators, private users of data, academia and researchers.

The Committee will function solely as an advisory body and in compliance with provisions of the Federal Advisory Committee Act. Copies of the Committee's revised Charter has been filed with the appropriate committees of Congress and with the Library of Congress.

FOR FURTHER INFORMATION CONTACT: Tahara D. Dawkins, Director NOAA/NESDIS Commercial Remote Sensing Regulatory Affairs (CRSRA), 1335 East West Highway, Room 8260, Silver Spring, Maryland 20910; telephone (301) 713-3385, fax (301) 713-1249, or Richard James at telephone (301) 713-0572, or email CRSRA@noaa.gov.

Mary E. Kicza,
Assistant Administrator for Satellite and Information Services.

[FR Doc. 2012-16198 Filed 6-29-12; 8:45 am]

BILLING CODE 3510-HR-P